DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Hoosier Valley Railroad Museum, Inc.

[Waiver Petition Docket Number FRA-2010-0161]

The Hoosier Valley Railroad Museum, Inc. (HVRM) of North Judson, Indiana, has petitioned for a permanent waiver of compliance for five cabooses from the requirements of the Railroad Safety Glazing Standards, title 49 CFR part 223, which require certified glazing in all windows. The subject cabooses do not meet the glazing requirements as per 49 CFR 223.13. The reporting marks on these cabooses, with built-years in parentheses, are as follows: B&LE 1989 (1956), EL C345 (1953), NKP 471 (1962), GTW 75072 (1948) and EJ&E 184 (1970). HVRM states that they are a 501(c)(3) non-profit organization with the mission to preserve railroad history in northwest Indiana. The subject cabooses are used in tourist, historic and/or excursion operations for the purpose of historic demonstration, photography and film production.

The subject cabooses are only operated at limited track speed over the Chesapeake & Indiana Railroad (CKIN) over tracks owned by the Town of North Judson, Indiana, and are operated under yard limits subject to the authority of CKIN. HVRM states that the installed glass is in good condition, operations are in a benign environment, and the expense of retrofitting the subject cabooses with FRA certified glazing will impose a high financial burden.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0161) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on December 15, 2010.
Robert C. Lauby,
Deputy Associate Administrator for Regulatory and Legislative Operations.

[FR Doc. 2010-31937 Filed 12-20-10; 8:45 am]

BILLING CODE 4910-06-P